DEPARTMENT OF COMMERCE

Submission for OMB Review; Comment Request

The Department of Commerce (DOC) will submit to the Office of Management and Budget (OMB) for clearance the following proposal for collection of information under the provisions of the Paperwork Reduction Act (44 U.S.C. Chapter 35).

Agency: Bureau of Economic Analysis (BEA), Commerce.

Title: Annual Survey of Foreign Direct Investment in the United States.

Form Numbers(s): BE-15(LF), BE-15(SF), BE-15(EZ), and BE-15 Supplement C.

Agency Approval Number: 0608-0034.

Type of Request: Revision of a currently approved collection.

Burden: 107,900 hours.

Number of Respondents: 4,950.

Average Hours per Response: 21.8 hours.

Needs and Uses: The Annual Survey of Foreign Direct Investment in the United States (Form BE-15) obtains sample data on the financial structure and operations of nonbank U.S. affiliates of foreign investors. The data are needed to provide reliable, useful, and timely measures of foreign direct investment in the United States, assess its impact on the U.S. economy, and based upon this assessment, make informed policy decisions regarding foreign direct investment in the United States. The data are used to derive annual estimates of the operations of U.S. affiliates of foreign investors, including their balance sheets; income statements; property, plant, and equipment; external financing; employment and employee compensation; merchandise trade; sales of goods and services; taxes; and research and development activity. In addition, data covering employment and property, plant, and equipment are collected by state. The data are also used to update similar data for the universe of U.S. affiliates collected once every five years on the BE-12 benchmark survey.

Affected Public: U.S. businesses or other for-profit institutions.

Frequency: Annual.

Respondent's Obligation: Mandatory.

Legal Authority: International Investment and Trade in Services Survey Act (Pub. L. 94-472, 22 U.S.C. 3101-3108).

OMB Desk Officer: Paul Bugg, (202) 395-3093.

You may obtain copies of the above information collection proposal by writing Diana Hynek, Departmental Paperwork Clearance Officer, Office of the Chief Information Officer, Department of Commerce, Room 6625, 14th and Constitution Avenue, NW., Washington, DC 20230, or e-mail dhynek@doc.gov.

Send comments on the proposed information collection within 30 days of publication of this notice to the Office of Management and Budget, O.I.R.A., Attention PRA Desk Officer for BEA, e-mail pbugg@omb.eop.gov, or by FAX at 202-395-7245.

Dated: August 24, 2006.
Madeleine Clayton,
Management Analyst, Office of the Chief Information Officer.

[FR Doc. E6-14356 Filed 8-29-06; 8:45 am]

BILLING CODE 3510-06-P